DEPARTMENT OF THE INTERIOR

National Park Service

Concession Contracts and Permits: Expiring Contracts; Extension

AGENCY: National Park Service, Interior.

ACTION: Public notice.

SUMMARY: Pursuant to the National Park Service Concessions Management Improvement Act of 1998, notice is hereby given that the National Park Service intends to issue a temporary contract authorizing operation of marina, campground, food service and sundry sales at Fire Island National Seashore. The temporary contract will be for a term not-to-exceed 1 year. This short-term concession contract is necessary to avoid interruption of visitor services while the National Park Service completes the ongoing financial analysis and issues a prospectus for a long-term contract. This notice is pursuant to 36 CFR part 51, section 51.24(a).

SUPPLEMENTARY INFORMATION: The current concession contract at Fire Island NS (Watch Hill) will expire by its terms on December 31, 2002. The National Park Service has determined that the proposed 1-year extension is necessary in order to avoid interruption of visitor services and has taken all reasonable and appropriate steps to consider alternatives to avoid such interruption. This extension will allow the National Park Service to develop a prospectus leading to competitive selection for a new long-term concession contract.

Concessioner ID No.: CC-FIIS002.

Concessioner Name: Davis Park Marine Services, Inc.

Park: Fire Island National Seashore.

EFFECTIVE DATE: July 3, 2003.

FOR FURTHER INFORMATION CONTACT: Cynthia Orlando, Concession Program Manager, National Park Service, Washington, DC 20240, Telephone 202/513-7144.

Dated: May 19, 2003.
Richard G. Ring,
Associate Director, Administration, Business Practices and Workforce Development.

[FR Doc. 03-16799 Filed 7-2-03; 8:45 am]

BILLING CODE 4312-53-M